SECURITIES AND EXCHANGE COMMISSION

[Release No. 34-45728; File No. SR-Amex-2002-17]

Self-Regulatory Organizations; Notice of Filing and Immediate Effectiveness of Proposed Rule Change by American Stock Exchange LLC Relating to IntraDay Comparison Fees for Equities

April 10, 2002.

Pursuant to section 19(b)(1) of the Securities Exchange Act of 1934 (“Act”),¹ notice is hereby given that on March 20, 2002, the American Stock Exchange LLC (“Amex” or “Exchange”) filed with the Securities and Exchange Commission (“Commission”) the proposed rule change as described in Items I, II, and III below, which Items have been prepared by the Exchange. The Commission is publishing this notice to solicit comments on the proposed rule change from interested persons.

¹ 15 U.S.C. 78s(b)(1).

I. Self-Regulatory Organization's Statement of the Terms of Substance of the Proposed Rule Change

The Exchange proposes to amend the Amex's Registration and IntraDay Comparison (“IDC”) Fees Schedule relating to Equity IDC Fees. New language is in italics.

Registration and IDC Fees

I. Membership Registration

No change

II. Options IDC

No change

III. Equities IDC

Dedicated Access $200/month

User I.D. 50/month

Transaction Processing Fee

(applied to T0 trades):

Shares per side

1-999 0.00 per side

1,000-2,999 0.03 per side

3,000 + 0.09 per side

Questioned Trade Charge

(applied to T+1, T+2, etc. trades): 0.20 per side

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Amex has prepared summaries, set forth in Sections A, B, and C below, of the most significant aspects of such statements.

A. Self-Regulatory Organization's Statement of the Purpose of, and Statutory Basis for, the Proposed Rule Change

1. Purpose

The Amex will be implementing a new trade comparison system for equities called Intra-Day Comparison System for Equities (“IDC-E”), as developed by the Securities Industry Automation Corporation (“SIAC”). IDC-E will provide real-time intra-day trade comparisons applicable to all trades, including system and non-system trades. System trades include executions of orders entered in the Amex Order File (“AOF”), the Exchange's automated order routing facility; non-system trades include execution of orders not entered into AOF (e.g., crowd to crowd trades). The benefits of intra-day comparison include reduction of the uncompared rate for equities, improvement in trade processing efficiency, and reduction of risk to member firms resulting from open positions.

Amex proposes to charge the following IDC-E transaction processing fees to Amex clearing firm members, effective May 1, 2002. The Questioned Trade Charge per questioned trade (applied to T+1, T+2, etc. trades) will be $0.20 per side. The transaction processing fee for transactions submitted for trade date comparison (per side) will be $0.03 for transactions of 1,000-2,999 shares per side, and $0.09 for transactions of 3,000 shares or more per side. (Transactions of less than 1,000 shares per side will not be charged.)

The Exchange also proposes to charge each clearing firm member a Dedicated Remote Access Fee of $2,400 annually. This is equal to Amex's Dedicated Remote Access fee of $2,400 per year for Intra-Day Comparison for Options (“IDC-O”). The Exchange will charge each clearing firm member $600 annually for User ID's, equal to AMEX's User ID fee of $600 per year for IDC-O.

IDC-E charges are intended to be cost-neutral to the clearing firm members and are not expected to result in overall increased comparison charges for clearing firm members.

2. Statutory Basis

The proposed rule change is consistent with section 6(b) of the Act ² in general and furthers the objectives of section 6(b)(4) of the Act ³ in particular in that it is designed to provide for the equitable allocation of reasonable dues, fees, and other charges among its members and issuers and other persons using its facilities.

² 15 U.S.C. 78f(b).

³ 15 U.S.C. 78f(b)(4).

B. Self-Regulatory Organization's Statement on Burden on Competition

The Exchange does not believe that the proposed rule change will impose any burden on competition.

C. Self-Regulatory Organization's Statement on Comments on the Proposed Rule Change Received From Members, Participants or Others

No written comments were solicited or received with respect to the proposed rule change.

III. Date of Effectiveness of the Proposed Rule Change and Timing for Commission Action

The foregoing rule change has become effective pursuant to section 19(b)(3)(A)(ii) of the Act ⁴ and subparagraph (f)(2) of Rule 19b-4 thereunder ⁵ because it establishes or changes a due, fee, or other charge. At any time within 60 days of the filing of such proposed rule change, the Commission may summarily abrogate such rule change if it appears to the Commission that such action is necessary of appropriate in the public interest, for the protection of investors, or otherwise in the furtherance of the purposes of the Act.

⁴ 15 U.S.C. 78s(b)(3)(A)(ii).

⁵ 17 CFR 240.19b-4(f)(2).

IV. Solicitation of Comments

Interested persons are invited to submit written data, views and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Amex. All submissions should refer to File No. SR-Amex-2002-17 and should be submitted by May 8, 2002.

For the Commission, by the Division of Market Regulation, pursuant to delegated authority.⁶
⁶ 17 CFR 200.30-3(a)(12).
Margaret H. McFarland,
Deputy Secretary.

[FR Doc. 02-9312 Filed 4-16-02; 8:45 am]

BILLING CODE 8010-01-P